DEPARTMENT OF ENERGY

Office of Energy Efficiency and Renewable Energy

10 CFR Part 490

Alternative Fuel Transportation Program; Emergency Exemption

AGENCY: Office of Energy Efficiency and Renewable Energy, Department of Energy.

ACTION: Notice of availability of “Documentation Guidelines for Emergency Repair and Restoration Vehicle Exclusions.”

SUMMARY: This notice announces the availability of a Department of Energy (DOE) document that provides guidelines to fleets covered under 10 CFR part 490 for submission of documentation for exclusion of vehicles directly used in the emergency repair or restoration of electricity service following power outages.

ADDRESSES: U.S. Department of Energy, Office of Energy Efficiency and Renewable Energy, Office of FreedomCAR and Vehicle Technologies, EE-2G, 1000 Independence Avenue, SW., Washington, DC 20585-0121.

The entire document with complete instructions for interested parties, “Documentation Guidelines for Emergency Repair and Restoration Vehicle Exclusions,” may be found at the Web site address http://www.eere.energy.gov/vehiclesandfuels/epact/state/state_resources.shtml.

FOR FURTHER INFORMATION CONTACT: Linda Bluestein on (202) 586-6116 or linda.bluestein@ee.doe.gov.

SUPPLEMENTARY INFORMATION: Section 707 of the Energy Policy Act of 2005 (Pub. L. 109-58) amended the list of excluded vehicles in section 301(9) of the Energy Policy Act of 1992 (Pub. L. 102-486, 42 U.S.C. 13211(9)) to add a new category of vehicles. Excluded vehicles are not counted when determining if an entity is covered and also are not counted when determining a covered entity's annual alternative fueled vehicle acquisition requirements. The vehicles excluded by this amendment are “* * * vehicles directly used in the emergency repair of transmission lines and in the restoration of electricity service following power outages * * *.”

Written requests for exclusion will be evaluated by DOE and considered on a case-by-case basis. Under this process, the requesting entity must justify that its vehicles are used directly in repair/restoration activities. DOE's review is expected to take no more than 45 days from the time sufficient information is provided to make a decision. Based upon DOE's decision, the requesting party will know how many vehicles it can then exclude (subtract) from its covered light-duty vehicle count, which is used to calculate its annual requirements.

Issued in Washington, DC, on November 17, 2005.
Douglas L. Faulkner,
Acting Assistant Secretary, Energy Efficiency and Renewable Energy.

[FR Doc. 05-23175 Filed 11-22-05; 8:45 am]

BILLING CODE 6450-01-P